ENVIRONMENTAL PROTECTION AGENCY

[FRL-9201-5]

National Environmental Justice Advisory Council; Notice of Charter Renewal

AGENCY: Environmental Protection Agency.

ACTION: Notice of Charter Renewal.

The Charter for the Environmental Protection Agency's (EPA) National Environmental Justice Advisory Council (NEJAC) will be renewed for an additional two-year period. This is a committee of public interest and acts in accordance with the provisions of the Federal Advisory Committee Act (FACA), 5 U.S.C. App. 2 section 9(c). The purpose of the NEJAC is to provide advice and recommendations to the Administrator on issues associated with integrating environmental justice concerns into EPA's programs, policies, and activities. Particular areas of focus may include community engagement, science, regulatory development, and enforcement and compliance.

Inquiries may be directed to Victoria Robinson, NEJAC Designated Federal Officer, U.S. EPA, 1200 Pennsylvania Avenue, NW., (Mail Code 2201A), Washington, DC 20460.

Dated: September 8, 2010.
Charles Lee,
Director, Office of Environmental Justice, Office of Enforcement and Compliance Assurance.

[FR Doc. 2010-22858 Filed 9-13-10; 8:45 am]

BILLING CODE 6560-50-P